DEPARTMENT OF DEFENSE

Department of the Army

[Docket ID: USA-2008-0021]

Privacy Act of 1974; System of Records

AGENCY: Department of the Army, DoD.

ACTION: Notice to alter a system of records.

SUMMARY: The Department of the Army is proposing to alter a system of records in its existing inventory of records systems subject to the Privacy Act of 1974, (5 U.S.C. 552a), as amended.

DATES: The proposed action will be effective on August 8, 2008 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 9, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 11, 2008.
Patricia L. Toppings,
OSD Federal Register Liaison Officer, Department of Defense.

A0095-1a TRADOC

Individual Flight Records Folder (September 6, 2000, 65 FR 53989)

CHANGES:

* * * * *

SYSTEM NAME:

Delete entry and replace with “Centralized Aviation Flight Records System (CAFRS).”

SYSTEM LOCATION:

Delete entry and replace with “Sparkman Center, Building 5307, Redstone Arsenal, AL 35898-5000”.

CATEGORIES OF INDIVIDUALS COVERED BY THE SYSTEM:

Add sentence at end of paragraph “Designated personnel assigned to perform duties as an Unmanned Aerial System (UAS) crewmember.”

* * * * *

AUTHORITY FOR MAINTENANCE OF THE SYSTEM:

Delete entry and replace with “10 U.S.C. 3013, Secretary of the Army; DoD Instruction 6055.1, DoD Safety and Occupational Health Program; Army Regulation 95-1, Aviation Flight Regulations; Army Regulation 95-20, Contractor Flight and Ground Operations; and E.O. 9397 (SSN).”

PURPOSE(S):

Delete entry and replace with “To record the flying experience, qualifications and training data of each aviator, crew member, UAS operator and flight surgeon in aviation service; and to monitor and manage individual contractor flight and ground personnel records.”

* * * * *

STORAGE:

Delete entry and replace with “Paper records in file folders and notebooks, and on electronic storage media.”

RETRIEVABILITY:

Delete entry and replace with “By name, Social Security Number (SSN) or other personal identifier”.

* * * * *

RETENTION AND DISPOSAL:

Delete entry and replace with “PERMANENT. Keep in Current Files Area (CFA) until no longer needed for conducting business, then retire to Records Holding Area/Army Electronic Archives (RHA/AEA). The Transition Center will pull the most current DA Form 759, Individual Flight Record and Flight Certificate-Army, from the Individual Flight Record Folder (IFRF) and forward it to the Official Military Personnel File (OMPF) Custodian for inclusion in the soldier's OMPF. The remainder of the IFRF will be given to the soldier upon separation processing at the Transition Center.”

SYSTEM MANAGER(S) AND ADDRESS:

Delete entry and replace with “Product Manager Aviation Mission Equipment (PM AME), CAFRS, Building 5307, Redstone Arsenal, AL 35898-5000.”

NOTIFICATION PROCEDURE:

Delete entry and replace with “Individuals seeking access to records about themselves contained in this record system may visit or address written inquiries to the Flight Operations Section of their current unit, contractor facility or via the CAFRS Help Desk at cafrs.help@us.army.mil or https://www.us.army.mil/suite/page/420577.

Individual should provide the full name, Social Security Number (SSN), and any details which will help locate the records, current address, and signature.”

RECORD ACCESS PROCEDURES:

Delete entry and replace with “Individuals seeking access to records about themselves contained in this record system may visit or address written inquiries to the Flight Operations Section of their current unit, contractor facility or via the CAFRS Help Desk at cafrs.help@us.army.mil or https://www.us.army.mil/suite/page/420577.

Individual should provide the full name, Social Security Number (SSN), and any details which will help locate the records, current address, and signature.”

* * * * *

A0095-1a TRADOC

SYSTEM NAME:

Centralized Aviation Flight Records System (CAFRS).

SYSTEM LOCATION:

Sparkman Center, Building 5307, Redstone Arsenal, AL 35898-5000.

CATEGORIES OF INDIVIDUALS COVERED BY THE SYSTEM:

Army aviators who are members of the Active and Reserve Components and qualified and current in the aircraft to be flown; civilian employees of Government agencies and Government contractors who have appropriate certifications or ratings, flight surgeons or aeromedical physicians' assistants in aviation service, enlisted crew chief/crew members, aerial observers, personnel in non-operational aviation positions, and those restricted or prohibited by statute from taking part in aerial flights. Designated personnel assigned to perform duties as an Unmanned Aerial System (UAS) crewmember.

CATEGORIES OF RECORDS IN THE SYSTEM:

DA Forms 759 and 759-1 (Individual Flight and Flight Certificate Army (Sections I, II, and III)); DA Form 4186 (Medical Recommendations for Flying Duty), DD Form 1821 (Contractor Crewmember Record); Name, Social Security Number (SSN), home address, date of birth, security clearance data, education, waivers, qualifications, disqualifications, re-qualifications, training, proficiency, and experience data, medical and physiological data, approvals to operate Government aircraft, requests for approval or contractor flight crewmember and contractor qualification training, and similar relevant documents.

AUTHORITY FOR MAINTENANCE OF THE SYSTEM:

10 U.S.C. 3013, Secretary of the Army; DoD Instruction 6055.1, DoD Safety and Occupational Health Program; Army Regulation 95-1, Aviation Flight Regulations; Army Regulation 95-20, Contractor Flight and Ground Operations; and E.O. 9397 (SSN).

PURPOSE(S):

To record the flying experience, qualifications and training data of each aviator, crew member, UAS operator and flight surgeon in aviation service; and to monitor and manage individual contractor flight and ground personnel records.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

Information may be disclosed to the Federal Aviation Agency and/or the National Transportation Safety Board.

The DoD `Blanket Routine Uses' set forth at the beginning of the Army's compilation of system of record notices apply to this record system.

POLICIES AND PRACTICES FOR STORING, RETRIEVING, ACCESSING, RETAINING, AND DISPOSING OF RECORDS IN THE SYSTEM:

STORAGE:

Paper records in file folders and notebooks, and on electronic storage media.

RETRIEVABILITY:

By name, Social Security Number (SSN), or other personal identifier.

SAFEGUARDS:

Records are maintained in secure areas available only to designated persons having official need for the record. Automated systems employ computer hardware/software safeguard features and controls which meet administrative, physical, and technical safeguards.

RETENTION AND DISPOSAL:

PERMANENT. Keep in Current Files Area (CFA) until no longer needed for conducting business, then retire to Records Holding Area/Army Electronic Archives (RHA/AEA). The Transition Center will pull the most current DA Form 759, Individual Flight Record and Flight Certificate-Army from the Individual Flight Record Folder (IFRF) and forward it to the Official Military Personnel File (OMPF) Custodian for inclusion in the soldier's OMPF. The remainder of the IFRF will be given to the soldier upon separation processing at the Transition Center.

SYSTEM MANAGER(S) AND ADDRESS:

Product Manager, Aviation Mission Equipment (PM AME), CAFRS, Sparkman Center, Building 5309, Redstone Arsenal, AL 35898-5000.

NOTIFICATION PROCEDURE:

Individuals seeking access to records about themselves contained in this record system may visit or address written inquiries to the Flight Operations Section of their current unit, contractor facility or via the CAFRS Help Desk at cafrs.help@us.army.mil or https://www.us.army.mil/suite/page/420577.

Individual should provide the full name, Social Security Number, and any details which will help locate the records, current address, and signature.

RECORD ACCESS PROCEDURES:

Individuals seeking access to records about themselves contained in this record system may visit or address written inquiries to the Flight Operations Section of their current unit, contractor facility or via the CAFRS Help Desk at cafrs.help@us.army.mil or https://www.us.army.mil/suite/page/420577.

Individual should provide the full name, Social Security Number, and any details which will help locate the records, current address, and signature.

CONTESTING RECORD PROCEDURES:

The Army's rules for accessing records, contesting contents, and appealing initial determinations are contained in Army Regulation 340-21; 32 CFR part 505; or may be obtained from the system manager.

RECORD SOURCE CATEGORIES:

From the individual, Federal Aviation Administration, flight surgeons, evaluation reports, proficiency and readiness tests, and other relevant records and reports.

EXEMPTIONS CLAIMED FOR THE SYSTEM:

None.

[FR Doc. E8-16416 Filed 7-17-08; 8:45 am]

BILLING CODE 5001-06-P